DEPARTMENT OF AGRICULTURE

Food and Nutrition Service

7 CFR Part 272

[FNS-2022-0005]

RIN 0584-AE86

Supplemental Nutrition Assistance Program: Revision of Civil Rights Data Collection Methods

Correction

In proposed rule document 2022-13058 appearing on pages 38010-38012 in the issue of Monday, June 27, 2022, make the following correction:

On page 38010, in the first column, the Subject in the heading is corrected to read as set forth above.

[FR Doc. C1-2022-13058 Filed 7-20-22; 8:45 am]

BILLING CODE 0099-10-D